DEPARTMENT OF THE INTERIOR

Office of the Secretary: Renewal of the Lake Champlain Sea Lamprey Control Alternatives Workgroup

AGENCY: Office of the Secretary, Interior.

ACTION: Notice.

SUMMARY: The Secretary of the Interior (Secretary), after consultation with the General Services Administration, has reestablished the charter for the Lake Champlain Sea Lamprey Control Alternatives Workgroup (Workgroup) for 2 years. The Workgroup provides an opportunity for stakeholders to give policy and technical advice on efforts to develop and implement sea lamprey control techniques alternative to lampricides in Lake Champlain.

FOR FURTHER INFORMATION CONTACT: Dave Tilton, Fish and Wildlife Service, Western New England Complex, 11 Lincoln Street, Essex Junction, VT 05452; 802-872-0629, extension 12.

SUPPLEMENTARY INFORMATION: The Workgroup conducts its operations in accordance with the provisions of the Federal Advisory Committee Act (5 U.S.C. Appendix). It reports to the Secretary through the Fish and Wildlife Service and Lake Champlain Fish and Wildlife Management Cooperative and functions solely as an advisory body. The Workgroup provides recommendations and advice to the Cooperative on:

• Feasible and appropriate sea lamprey management methods alternative to lampricides;

• Funding priorities for research and/or demonstration projects;

• Facilitating coordinated research between Lake Champlain and the Great Lakes; and

• Development of requests for proposals, project proposals, and research efforts affecting the Lake Champlain Basin.

The Workgroup consists of no more than 25 members and alternates appointed by the Secretary for 3-year terms. Up to five of the members may be special Government employees, selected for their scientific expertise. In addition, up to 20 members of the Workgroup will represent those with an interest in and a commitment to the Lake Champlain Basin's natural resources and its environmental quality. The States of Vermont and New York will each have a representative on the Workgroup. Other members will be selected from, but not limited to, the following interest groups:

(1) Recreational and charter fishermen, (2) sportfishing organizations, (3) environmental organizations, (4) general public residing within the Lake Champlain area, and (5) academic research and educational personnel. These members must be senior-level representatives with knowledge about fishery restoration objectives within the Lake Champlain Basin, including sea lamprey control, and must have the ability to represent their designated constituencies.

We have filed a copy of the Working Group's charter with the Committee Management Secretariat, General Services Administration; Committee on Environment and Public Works, United States Senate; Committee on Natural Resources, United States House of Representatives; and the Library of Congress.

The Certification for reestablishment is published below.

Certification

I hereby certify that the Lake Champlain Sea Lamprey Control Alternatives Workgroup is necessary and is in the public interest in connection with the performance of duties pursuant to the Department of the Interior's authority under the Lake Champlain Basin Program (33 U.S.C. 1270) and the Anadromous Fish Conservation Act (16 U.S.C. 757a-757g).

Dated: August 19, 2010.
Ken Salazar,
Secretary of the Interior.

[FR Doc. 2010-22059 Filed 9-2-10; 8:45 am]

BILLING CODE 4310-55-P